DEPARTMENT OF HEALTH AND HUMAN SERVICES

Office of the Secretary

Opportunity to Co-Sponsor Office of Research Integrity Workshops; Correction

AGENCY: Office of the Secretary, HHS.

ACTION: Correction of notice.

SUMMARY: This document corrects an error that appeared in the notice published in the August 16, 2018, Federal Register entitled “Opportunity to Co-Sponsor Office of Research Integrity Workshops.” The document contained an incorrect suite number in the address of the Office of Research Integrity.

DATES:

Effective Date: March 23, 2021.

Applicability Date: The correction notice is applicable for the Opportunity to Co-Sponsor Office of Research Integrity Workshops notice published on August 16, 2018.

FOR FURTHER INFORMATION CONTACT: Tracey Randolph at 240-453-8200.

SUPPLEMENTARY INFORMATION:

I. Background

In FR Doc. 2018-17615 of August 16, 2018 (83 FR 40774), there is an error involving the suite number in the address of the Office of Research Integrity. The error is identified and corrected in the Correction of Errors section below.

II. Correction of Errors

In FR Doc. 2018-17615 of August 16, 2018 (83 FR 40774), make the following correction:

1. On page 40774, first column, last paragraph, in FR Doc. 2018-17615, correct the suite number in line 4 to read “Suite 240.”

Dated: March 17, 2021.
Wanda K. Jones,
Acting Director, Office of Research Integrity.

[FR Doc. 2021-05897 Filed 3-22-21; 8:45 am]

BILLING CODE 4150-31-P